DEPARTMENT OF TRANSPORTATION

Pipeline and Hazardous Materials Safety Administration

Office of Hazardous Materials Safety; Notice of Application for Special Permits

AGENCY: Pipeline and Hazardous Materials Safety Administration, DOT.

ACTION: List of applications for special permits.

SUMMARY: In accordance with the procedures governing the application for, and the processing of, special permits from the Department of Transportation's Hazardous Material Regulations (40 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 17, 2006.

Address Comments to: Record Center, Pipeline and Hazardous Materials Safety Administration, U.S. Department of Transportation, Washington, DC 20590.

Comments should refer to the application number and be submitted in triplicate. If Confirmation of receipt of comments is desired include a self-addressed stamped postcard showing the special permit number.

FOR FURTHER INFORMATION CONTACT: Copies of the applications are available for inspection in the Records Center, Nassif Building, 400 7th Street, SW., Washington, DC or at http://dms.dot.gov.

This notice of receipt of applications for special permit is published in accordance with part 107 of the Federal hazardous materials transportation law (49 U.S.C. 5117(b); 49 CFR 1.53(b)).

Issued in Washington, DC, on June 12, 2006.
R. Ryan Posten,
Chief, Special Permits Program, Office of Hazardous Materials, Special Permits & Approvals.

New Special Permits
Appliction No. | Docket No. | Applicant | Regulation(s) affected | Nature of special permits thereof
14334-N |  | Rohm and Haas Chemicals LLC, Philadelphia, PA | 49 CFR 177.834(i)(1) and (3) | To authorize the use of video cameras and monitors to observe the loading and unloading operations meeting the definition of “loading incidental to movement” or “unloading incidental to movement” as those terms are defined in § 171.8 of the Hazardous Materials Regulations from a remote control station in place of personnel remaining within 25 feet of a cargo tank motor vehicle. (mode 1).
14355-N |  | Honeywell International Inc., Morristown, NJ | 49 CFR 173.31(b)(3); 173.31(b)(4) | To authorize the transportation in commerce of nine DOT Specification 112 tank cars without head and thermal protection for use in transporting certain Division 2.2 material by extending the date for retrofitting beyond July 1, 2006. (mode 2).
14356-N |  | Albermarle Corporation, Baton Rouge, LA | 49 CFR 173.181 | To authorize the transportation in commerce of Division 4.2 organometallic liquids in non-DOT specification pressure vessels designed and constructed in accordance with the ASME Code (similar to DOT Specification 4BW) when transported by highway and rail. (modes 1, 2).
14358-N |  | Vi-Jon Laboratories Inc., St. Louis, MO | 49 CFR Parts 171-180 | To authorize the transportation of limited quantities of ethyl alcohol solutions, not to exceed 70%, in non-DOT specification packaging consisting of polyethylene inner containers overpacked in strong outside fiberboard boxes with no hazard communication by highway, rail and vessel. (modes 1, 2, 3).

[FR Doc. 06-5465 Filed 6-15-06; 8:45 am]

BILLING CODE 4909-60-M